DEPARTMENT OF COMMERCE

International Trade Administration

[A-570-929]

Small Diameter Graphite Electrodes From the People's Republic of China: Affirmative Preliminary Determination of Circumvention of the Antidumping Duty Order and Intent To Rescind Later-Developed Merchandise Circumvention Inquiry

AGENCY: Import Administration, International Trade Administration, Department of Commerce.

SUMMARY: The Department of Commerce (“Department”) preliminarily determines that imports from the People's Republic of China (“PRC”) of certain graphite electrodes, produced and/or exported by Sinosteel Jilin Carbon Co., Ltd. and Jilin Carbon Import & Export Company (collectively, “Jilin Carbon”), with an actual or nominal diameter of 17 inches, and otherwise meeting the description of in-scope merchandise, constitutes merchandise altered in form or appearance in such minor respects that it should be included within the scope of the Order.¹

¹ See Antidumping Duty Order: Small Diameter Graphite Electrodes from the People's Republic of China, 74 FR 8775 (February 26, 2009) (“Order”).

DATES: Effective Date: April 17, 2013.

FOR FURTHER INFORMATION CONTACT: Thomas Schauer, Office 1, Import Administration, International Trade Administration, U.S. Department of Commerce, 14th Street and Constitution Avenue NW, Washington, DC, 20230; telephone: (202) 482-0410.

SUPPLEMENTARY INFORMATION:

Scope of the Antidumping Duty Order

The merchandise covered by the order is small diameter graphite electrodes. Small diameter graphite electrodes subject to the order are currently classifiable in the Harmonized Tariff Schedule of the United States (“HTSUS”) at subheading 8545.11.0010. The HTSUS subheadings are provided for convenience and customs purposes. A full description of the scope of the Order is contained in the memorandum from Christian Marsh, Deputy Assistant Secretary for Antidumping and Countervailing Duty Operations, to Paul Piquado, Assistant Secretary for Import Administration, “Preliminary Analysis Memorandum for the Circumvention Inquiry of the Antidumping Duty Order on Small Diameter Graphite Electrodes from the People's Republic of China” dated concurrently with this notice (“Preliminary Decision Memorandum”), which is hereby adopted by this notice. The written description is dispositive. The Preliminary Decision Memorandum is a proprietary document with a public version, and the public version is on file electronically via Import Administration's Antidumping and Countervailing Duty Centralized Electronic Service System (“IA ACCESS”). Access to IA ACCESS is available to registered users at http://iaaccess.trade.gov and is available to all parties in the Central Records Unit, room 7046 of the main Department of Commerce building. In addition, a complete version of the Preliminary Decision Memorandum can be accessed directly on the Internet at http://www.trade.gov/ia/. The signed Preliminary Decision Memorandum and the electronic versions of the Preliminary Decision Memorandum are identical in content.

Scope of the Circumvention Inquiry

The merchandise subject to this circumvention inquiry consists of graphite electrodes from the PRC, produced and/or exported by Jilin Carbon, Beijing Fangda Carbon-Tech Co., Ltd. and Fangda Carbon New Material Co., Ltd., and Fushun Jinly Petrochemical Carbon, with diameters larger than 16 inches but less than 18 inches, and otherwise meeting the description of the scope of the Order. We have limited the application of our affirmative preliminary determination to graphite electrodes from the PRC, produced and/or exported by Jilin Carbon, with an actual or nominal diameter of 17 inches because record evidence shows that, among the producers and merchandise subject to this inquiry, Jilin Carbon produced and/or exported 17-inch diameter graphite electrodes to the United States,² and we have no record evidence at this time supporting a determination that any other producer in the PRC produces or exports graphite electrodes with diameters larger than 16 inches but less than 18 inches.

² See Preliminary Decision Memorandum at 3-4.

Methodology

The Department has made this preliminary finding of circumvention in accordance with section 781(c) of the Tariff Act of 1930, as amended (“Act”) and 19 CFR 351.225(i). For a full description of the methodology underlying our conclusions, see the Preliminary Decision Memorandum.

Preliminary Determination

As detailed in the Preliminary Decision Memorandum, we preliminarily determine, pursuant to section 781(c) of the Act, that imports from the PRC of certain graphite electrodes, produced and/or exported by Jilin Carbon, with a diameter of 17 inches, and otherwise meeting the description of in-scope merchandise, constitutes merchandise altered in form or appearance in such minor respects that it should be subject to the Order. This preliminary determination applies only to merchandise produced and/or exported by Jilin Carbon. Because we are recommending an affirmative preliminary determination of circumvention with respect to minor alterations pursuant to section 781(c) of the Act, we do not find it necessary to make a determination with respect to a later-developed merchandise circumvention inquiry pursuant to section 781(d) of the Act and we intend to rescind the later-developed merchandise circumvention inquiry.

Suspension of Liquidation

In accordance with 19 CFR 351.225(l)(2), we are directing U.S. Customs and Border Protection (“CBP”) to suspend liquidation of entries of merchandise subject to this inquiry produced and/or exported by Jilin Carbon, and entered, or withdrawn from warehouse, for consumption on or after June 25, 2012, the date of publication of the initiation of this inquiry. We will also instruct CBP to require a cash deposit of estimated duties at the applicable rates for each unliquidated entry of the product entered, or withdrawn from warehouse, for consumption on or after June 25, 2012, in accordance with 19 CFR 351.225(l)(2).

Public Comment

Pursuant to 19 CFR 351.309(c), interested parties may submit case briefs not later than 30 days after the date of publication of this notice. Pursuant to 19 CFR 351.309(d), rebuttal briefs, limited to issues raised in the case briefs, may be filed not later than five days after the date for filing case briefs. Parties who submit case briefs or rebuttal briefs in this proceeding are encouraged to submit with each argument: (1) A statement of the issue; (2) a brief summary of the argument; and (3) a table of authorities.

Pursuant to 19 CFR 351.310(c), interested parties who wish to request a hearing, or to participate if one is requested, must submit a written request to the Assistant Secretary for Import Administration, filed electronically via IA ACCESS. An electronically filed document must be received successfully in its entirety by the Department's electronic records system, IA ACCESS, by 5 p.m. Eastern Standard Time within 30 days after the date of publication of this notice. Requests should contain: (1) The party's name, address and telephone number; (2) the number of participants; and (3) a list of issues to be discussed. Issues raised in the hearing will be limited to those raised in the respective case briefs. We expect to issue our final determination of circumvention by September 13, 2013.

This preliminary determination of circumvention is in accordance with section 781(c) of the Act and 19 CFR 351.225.

Dated: April 11, 2013.
Paul Piquado,
Assistant Secretary for Import Administration.

[FR Doc. 2013-09059 Filed 4-16-13; 8:45 am]

BILLING CODE 3510-DS-P